ENVIRONMENTAL PROTECTION AGENCY

40 CFR Parts 50 and 51

[EPA-HQ-OAR-2007-0956; FRL-8772-8]

RIN-2060-AO63

Proposed Rule To Implement the 1997 8-Hour Ozone National Ambient Air Quality Standard: Revision on Subpart 1 Area Reclassification and Anti-Backsliding Provisions Under Former 1-Hour Ozone Standard; Proposed Deletion of Obsolete 1-Hour Ozone Standard Provision

AGENCY: Environmental Protection Agency (EPA).

ACTION: Notice of public hearing and extension of comment period.

SUMMARY: The EPA is announcing a public hearing to be held for the proposed rule “Proposed Rule to Implement the 1997 8-Hour Ozone National Ambient Air Quality Standard: Revision on Subpart 1 Area Reclassification and Anti-Backsliding Provisions Under Former 1-Hour Ozone Standard; Proposed Deletion of Obsolete 1-Hour Ozone Standard Provision” which published in the Federal Register on January 16, 2009. The hearing will be held in Washington, DC, on Monday, March 2, 2009.

EPA is also announcing an extension of the public comment period on our proposed rule. EPA is extending the comment period that originally ends on February 17, 2009. The extended comment period will close on April 1, 2009.

In this notice of proposed rulemaking, EPA proposed to revise the rule for implementing the 1997 8-hour ozone national ambient air quality standard (NAAQS) for several of the limited portions of the rule vacated by the U.S. Circuit Court of Appeals for the District of Columbia. The proposal addresses the classification system for the subset of initial 8-hour ozone nonattainment areas that the implementation rule originally covered under Clean Air Act (CAA) title I, part D, subpart 1. The proposal also addresses how 1-hour ozone contingency measures that apply for failure to attain or make reasonable progress toward attainment of the 1-hour standard should apply under the anti-backsliding provisions of the implementation rule. In addition, the proposal removes language relating to the vacated provisions of the rule that provided exemptions from the requirements of nonattainment new source review (NSR) and CAA section 185 penalty fees under the 1-hour standard. The public hearing will provide interested parties the opportunity to present data, views, or arguments concerning these proposed changes.

DATES: Public Hearing. The public hearing will be held on March 2, 2009.

Comments. Comments must be received on or before April 1, 2009.

ADDRESSES: Public Hearing. The hearing will be held at U.S. Environmental Protection Agency, EPA East, Room 1153, 1200 Pennsylvania Avenue, Washington, DC 20004. The public hearing will start at 10 a.m. and end at 3 p.m. Because this hearing is being held at U.S. government facilities, everyone planning to attend the hearing should be prepared to show valid picture identification to the security staff in order to gain access to the meeting room. In addition, you will need to obtain a property pass for any personal belongings you bring with you. Upon leaving the building, you will be required to return this property pass to the security desk. No large signs will be allowed in the building, cameras may only be used inside the classroom and outside of the building and demonstrations will not be allowed on Federal property for security reasons.

Comments. Submit your comments, identified by Docket ID No. EPA-HQ-OAR-2007-0956, by one of the following methods:

• http://www.regulations.gov: Follow the on-line instructions for submitting comments.

• E-mail: a-and-r-docket@epa.gov.

• Fax: (202) 566-9744

• Mail: Air and Radiation Docket and Information Center, Attention Docket ID No. EPA-HQ-OAR-2007-0956, Environmental Protection Agency, 1301 Constitution Ave., NW., Washington, DC 20460. Mail Code: 2822T. Please include two copies if possible.

• Hand Delivery: Air and Radiation Docket and Information Center, Attention Docket ID No. EPA-HQ-OAR-2007-0956, Environmental Protection Agency in the EPA Headquarters Library, Room Number 3334 in the EPA West Building, located at 1301 Constitution Ave., NW., Washington, DC. The EPA/DC Public Reading Room hours of operation will be 8:30 a.m. to 4:30 p.m. Eastern Standard Time (EST), Monday through Friday, Air and Radiation Docket and Information Center.

Instructions: Direct your comments to Docket ID No. EPA-HQ-OAR-2007-0956. The EPA's policy is that all comments received will be included in the public docket without change and may be made available on-line at http://www.regulations.gov, including any personal information provided, unless the comment includes information claimed to be confidential business information (CBI) or other information whose disclosure is restricted by statute. Do not submit information that you consider to be CBI or otherwise protected through http://www.regulations.gov, or e-mail. The http://www.regulations.gov Web Site is an “anonymous access” system, which means EPA will not know your identity or contact information unless you provide it in the body of your comment.

If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in http://www.regulations.gov. Although listed in the index, some information is not publicly available, i.e., CBI or other information whose disclosure is restricted by statute. Certain other material, such as copyrighted material, is not placed on the Internet and will be publicly available only in hard copy form. Publicly available docket materials are available either electronically in http://www.regulations.gov or in hard copy at the EPA Docket Center (Air Docket), EPA West, Room 3334, 1301 Constitution Ave., NW., Washington, DC. The Public Reading Room is open from 8:30 a.m. to 4:30 p.m., Monday through Friday, excluding legal holidays. The telephone number for the Public Reading Room is (202) 566-1744.

The EPA Web site for the rulemaking, which includes the proposal and information about the public hearing, can be found at: http://www.epa.gov/ttn/naaqs/ozone/o3imp8hr/.

FOR FURTHER INFORMATION CONTACT: If you would like to speak at the public hearing, please contact Ms. Pamela Long, U.S. Environmental Protection Agency, OAQPS, Air Quality Planning Division, (C504-03), Research Triangle Park, NC 27711, telephone (919) 541-0641, fax number (919) 541-5509, e-mail address long.pam@epa.gov no later than February 27, 2009. If you have any questions on the public hearing, please contact Ms. Long at the above number.

Questions concerning the January 16, 2009, proposed rule should be addressed to Mr. John Silvasi, U.S. EPA, Office of Air Quality Planning and Standards, Air Quality Policy Division, (C539-01), Research Triangle Park, NC 27711, telephone number (919) 541-5666, e-mail at silvasi.john@epa.gov.

SUPPLEMENTARY INFORMATION: The January 16, 2009, notice of proposed rulemaking proposes to revise the rule for implementing the 1997 8-hour ozone NAAQS for several of the limited portions of the rule vacated by the U.S. Circuit Court of Appeals for the District of Columbia. The proposal addresses the classification system for the subset of initial 8-hour ozone nonattainment areas that the implementation rule originally covered under CAA title I, part D, subpart 1. The proposal also addresses how 1-hour ozone contingency measures that apply for failure to attain or make reasonable progress toward attainment of the 1-hour standard should apply under the anti-backsliding provisions of the implementation rule. In addition, the proposal removes language relating to the vacated provisions of the rule that provided exemptions from the requirements of nonattainment NSR and CAA section 185 penalty fees under the 1-hour standard.

Public Hearing: The proposal for which EPA is holding the public hearing was published in the Federal Register on January 16, 2009, (74 FR 2936) and is available at: http://www.epa.gov/ttn/naaqs/ozone/o3imp8hr/ and also in the docket identified below. The public hearing will provide interested parties the opportunity to present data, views, or arguments concerning the proposal. The EPA may ask clarifying questions during the oral presentations, but will not respond to the presentations at that time. Written statements and supporting information submitted during the comment period will be considered with the same weight as any oral comments and supporting information presented at the public hearing. Written comments on the proposed rule must be postmarked by April 1, 2009, which is the extended closing date for the comment period.

Commenters should notify Ms. Long if they will need specific equipment, or if there are other special needs related to providing comments at the hearing. The EPA will provide equipment for commenters to show overhead slides or make computerized slide presentations if we receive special requests in advance. Oral testimony will be limited to 5 minutes for each commenter. The EPA encourages commenters to provide EPA with a copy of their oral testimony electronically (via e-mail or CD) or in hard copy form.

The hearing schedule, including lists of speakers, will be posted on EPA's Web site http://www.epa.gov/ttn/naaqs/o3imp8hr/. Verbatim transcripts of the hearing and written statements will be included in the docket for the rulemaking.

How Can I Get Copies of This Document and Other Related Information?

The EPA has established a docket for the proposed rule “Proposed Rule to Implement the 1997 8-Hour Ozone National Ambient Air Quality Standard: Revision on Subpart 1 Area Reclassification and Anti-Backsliding Provisions Under Former 1-Hour Ozone Standard; Proposed Deletion of Obsolete 1-Hour Ozone Standard Provision” under Docket ID No. EPA-HQ-OAR-2007-0956 (available at http://www.regulations.gov).

As stated previously, the proposed rule was published in the Federal Register on January 16, 2009 (74 FR 2936) and is available at http://www.epa.gov/ttn/naaqs/ozone/o3imp8hr/ and in the above-cited docket.

Dated: February 5, 2009.
Mary E. Henigin,
Acting Director, Office of Air Quality Planning and Standards.

[FR Doc. E9-3051 Filed 2-11-09; 8:45 am]

BILLING CODE 6560-50-P